LEGAL SERVICES CORPORATION

Sunshine Act Meetings of the Board of Directors and One of its Committees

Time and Date: The Legal Services Corporation (“LSC”) Board of Directors (“Board”) and its 2008 Ad Hoc Committee will meet on March 24, 2008 via conference call. The meetings will occur in the order set forth in the following schedule, with the second meeting commencing immediately after adjournment of the first.

Meeting Schedule ¹
Monday, March 24, 2008 | Time
1. 2008 Ad Hoc Committee | 4:30 p.m.
2. Board of Directors | (Follows Immediately).
¹ Please note that the times in this notice are Eastern Daylight Saving Time.

Location: 3333 K Street, NW., Washington, DC 20007, 3rd Floor Conference Center.

Status of Meetings: Open. Directors will participate by telephone conference in such a manner as to enable interested members of the public to hear and identify all persons participating in the meeting. Members of the public wishing to observe the meeting may do so by joining participating staff at the location indicated above. Members of the public wishing to listen to the meeting by telephone should call 1-800-857-4830 and enter 34309 on the key pad when prompted. To enhance the quality of your listening experience as well as that of others, and to eliminate background noises that interfere with the audio recording of the proceeding, please mute your telephone during the meeting.

2008 AD HOC Committee

Agenda

Matters To Be Considered:

1. Consider and act on adoption of agenda.

2. Consider and act on recommendations to make to the Board of Directors regarding proposed responses to recommendations made by the Government Accountability Office in its report on LSC's grants management.

3. Consider and act on whether to recommend to the Board of Directors that it establish an Audit Committee and, if so, to adopt a draft charter to recommend to the Board for such Audit Committee.

4. Consider and act on other business.

5. Consider and act on motion to adjourn the meeting.

Board of Directors

Agenda

Matters To Be Considered:

1. Report of 2008 Ad Hoc Committee.

2. Consider and act on recommendations of the 2008 Ad Hoc Committee.

3. Consider and act on LSC Ethics and Compliance Code and designation of Ethics Officer(s).

4. Consider and act on dissolution of 2007 Search Committee for LSC Inspector General.

5. Consider and act on other business.

6. Consider and act on motion to adjourn the meeting

Contact Person for Information: Patricia Batie, Manager of Board Operations, at (202) 295-1500.

Special Needs: Upon request, meeting notices will be made available in alternate formats to accommodate visual and hearing impairments. Individuals who have a disability and need an accommodation to attend the meeting may notify Patricia Batie at (202) 295-1500.

Dated: March 13, 2008.
Victor M. Fortuno,
Vice President, General Counsel & Corporate Secretary.

[FR Doc. 08-1043 Filed 3-13-08; 1:55 pm]

BILLING CODE 7050-01-P